DEPARTMENT OF THE INTERIOR

National Park Service

[NPS-WASO-NAGPRA-12724: PPWOCRADN0-PCU00RP14.R50000]

Notice of Intent To Repatriate Cultural Items: The Robert S. Peabody Museum of Archaeology, Phillips Academy, Andover, MA

AGENCY: National Park Service, Interior.

ACTION: Notice.

SUMMARY: The Robert S. Peabody Museum of Archaeology, Phillips Academy, Andover, MA, in consultation with the appropriate Indian tribes or Native Hawaiian organizations, has determined that the cultural items listed in this notice meet the definition of unassociated funerary objects. Lineal descendants or representatives of any Indian tribe or Native Hawaiian organization not identified in this notice that wish to claim these cultural items should submit a written request to the Robert S. Peabody Museum of Archaeology. If no additional claimants come forward, transfer of control of the cultural items to the lineal descendants, Indian tribes, or Native Hawaiian organizations stated in this notice may proceed.

DATES: Lineal descendants or representatives of any Indian tribe or Native Hawaiian organization not identified in this notice that wish to claim these cultural items should submit a written request with information in support of the claim to the Robert S. Peabody Museum of Archaeology at the address in this notice by June 12, 2013.

ADDRESSES: Ryan J. Wheeler, Ph.D., Director, Robert S. Peabody Museum of Archaeology, Phillips Academy, Andover, MA 01810, telephone (978) 749-4490.

SUPPLEMENTARY INFORMATION: Notice is here given in accordance with the Native American Graves Protection and Repatriation Act (NAGPRA), 25 U.S.C. 3005, of the intent to repatriate cultural items under the control of the Robert S. Peabody Museum of Archaeology, Phillips Academy, Andover, MA, that meet the definition of unassociated funerary objects under 25 U.S.C. 3001.

This notice is published as part of the National Park Service's administrative responsibilities under NAGPRA, 25 U.S.C. 3003(d)(3). The determinations in this notice are the sole responsibility of the museum, institution, or Federal agency that has control of the Native American cultural items. The National Park Service is not responsible for the determinations in this notice.

History and Description of the Cultural Items

In 1930, four unassociated funerary objects were removed by the Gila Pueblo Foundation from the site of Pozos de Sonoqui (Sacaton 2:6 and Sacaton 2:7; AZ U:14:49 [ASM]), also known as Queen Creek Ruin and Sun Temple Ruin, in the Salt River Basin in Pinal and Maricopa Counties, AZ. Records indicate the four items were removed from cremation burials, though the human remains are not present. The objects are two ceramic bowls, one ceramic scoop, and one shell bracelet.

Between 1927 and 1928, one unassociated funerary object was removed by the Gila Pueblo Foundation from the Adamsville site (Florence 7: 6 (GP); AZ U:15:1 [ASM]) in Pinal County, AZ. Records indicate that this item likely was associated with a cremation burial, although no specific burial is listed. The object is one ceramic bowl.

In 1940, the Robert S. Peabody Museum of Archaeology received these five unassociated funerary objects as part of an exchange with the Gila Pueblo Foundation. Archaeological evidence indicates the sites of Adamsville and Pozos de Sonoqui are from the archeologically defined Hohokam tradition. The occupation of the Adamsville site was approximately between A.D. 900 and 1450. The occupation of the Pozos de Sonoqui site was approximately between A.D. 950 and 1450. Mortuary practices, ethnographic materials, and technology indicate a cultural affiliation of these Hohokam settlements with present-day O'odham (Piman) and Puebloan cultures. An August 2000 cultural affiliation study, submitted by the Gila River Indian Community of the Gila River Indian Reservation, Arizona, addresses continuities between the Hohokam and the O'odham tribes.

Determinations Made by the Robert S. Peabody Museum of Archaeology

Officials of the Robert S. Peabody Museum of Archaeology have determined that:

• Pursuant to 25 U.S.C. 3001(3)(B), the five cultural items described above are reasonably believed to have been placed with or near individual human remains at the time of death or later as part of the death rite or ceremony and are believed, by a preponderance of the evidence, to have been removed from a specific burial site of a Native American individual.

• Pursuant to 25 U.S.C. 3001(2), there is a relationship of shared group identity that can be reasonably traced between the unassociated funerary objects and the Ak Chin Indian Community of the Maricopa (Ak Chin) Indian Reservation, Arizona; Gila River Indian Community of the Gila River Indian Reservation, Arizona; Hopi Tribe of Arizona; Salt River Pima-Maricopa Indian Community of the Salt River Reservation, Arizona; Tohono O'odham Nation of Arizona; and the Zuni Tribe of the Zuni Reservation, New Mexico.

Additional Requestors and Disposition

Lineal descendants or representatives of any Indian tribe or Native Hawaiian organization not identified in this notice that wish to claim these cultural items should submit a written request with information in support of the claim to Ryan J. Wheeler, Ph.D., Director, Robert S. Peabody Museum of Archaeology, Phillips Academy, Andover, MA 01810, telephone (978) 749-4490, by June 12, 2013. After that date, if no additional claimants have come forward, transfer of control of the unassociated funerary objects to the Ak Chin Indian Community of the Maricopa (Ak Chin) Indian Reservation, Arizona; Gila River Indian Community of the Gila River Indian Reservation, Arizona; Hopi Tribe of Arizona; Salt River Pima-Maricopa Indian Community of the Salt River Reservation, Arizona; Tohono O'odham Nation of Arizona; and the Zuni Tribe of the Zuni Reservation, New Mexico may proceed.

The Robert S. Peabody Museum of Archaeology is responsible for notifying the Ak Chin Indian Community of the Maricopa (Ak Chin) Indian Reservation, Arizona; Gila River Indian Community of the Gila River Indian Reservation, Arizona; Hopi Tribe of Arizona; Salt River Pima-Maricopa Indian Community of the Salt River Reservation, Arizona; Tohono O'odham Nation of Arizona; and the Zuni Tribe of the Zuni Reservation, New Mexico, that this notice has been published.

Dated: April 2, 2013.
Sherry Hutt,
Manager, National NAGPRA Program.

[FR Doc. 2013-11221 Filed 5-10-13; 8:45 am]

BILLING CODE 4312-50-P